SMALL BUSINESS ADMINISTRATION

Disaster Declaration #10552 and #10553; California Disaster #CA-00038

AGENCY: U.S. Small Business Administration.

ACTION: Notice.

SUMMARY: This is a notice of an Administrative declaration of a disaster for the State of California dated 07/27/2006.

Incident: Sawtooth Complex Fire.

Incident Period: 07/09/2006 through 07/18/2006.

Effective Date: 07/27/2006.

Physical Loan Application Deadline Date: 09/25/2006.

Economic Injury (EIDL) Loan Application Deadline Date: 04/27/2007.

ADDRESSES: Submit completed loan applications to: U.S. Small Business Administration, National Processing and Disbursement Center, 14925 Kingsport Road, Fort Worth, TX 76155.

FOR FURTHER INFORMATION CONTACT: A. Escobar, Office of Disaster Assistance, U.S. Small Business Administration, 409 3rd Street, SW., Suite 6050, Washington, DC 20416.

SUPPLEMENTARY INFORMATION: Notice is hereby given that as a result of the Administrator's disaster declaration applications for disaster loans may be filed at the address listed above or other locally announced locations.

The following areas have been determined to be adversely affected by the disaster:

Primary Counties: San Bernardino.

Contiguous Counties:

Arizona: La Paz, Mohave.

California: Inyo, Kern, Los Angeles, Orange, Riverside.

Nevada: Clark.

The Interest Rates are:

| Percent
Homeowners with Credit Available Elsewhere | 5.875
Homeowners without Credit Available Elsewhere: | 2.937
Businesses with Credit Available Elsewhere: | 7.763
Businesses & Small Agricultural Cooperatives without Credit Available Elsewhere: | 4.000
Other (Including Non-Profit Organizations) with Credit Available Elsewhere: | 5.000
Businesses And Non-Profit Organizations without Credit Available Elsewhere: | 4.000

The number assigned to this disaster for physical damage is 10552 5 and for economic injury is 10553 0.

The States which received an EIDL Declaration # are California, Arizona, Nevada.

(Catalog of Federal Domestic Assistance Numbers 59002 and 59008)
Dated: July 27, 2006.
Steven C. Preston,
Administrator.

[FR Doc. E6-12502 Filed 8-2-06; 8:45 am]

BILLING CODE 8025-01-P